DEPARTMENT OF ENERGY

Federal Energy Regulatory Commission

[Docket No. AD03-7-002]

Natural Gas Price Formation; Second Supplemental Notice of Staff Workshop on Market Activity and Price Indicators

October 29, 2003.

As announced in the Notices issued October 15 and the Supplemental Notice of October 23, 2003, the Commission's staff will hold a Workshop from 10 a.m. to 5 p.m. on Tuesday, November 4, 2003, at the Federal Energy Regulatory Commission, 888 First Street, NE., Washington, DC 20426. This second supplemental Notice provides additional information on the Workshop.

Workshop Presentations

This Workshop is intended to be a substantive and informative discussion of the issues and questions contained in the October 15th and 23rd, 2003 Notices by those participating in the Workshop, and presentations are not expected. However if participants deem it necessary to make brief presentations (up to 5 minutes) to make a point on any of these issues or questions, they may do so.

If you decide a presentation is necessary, Jolanka Fisher must be notified as soon as possible to determine if and how your presentation fits into the Workshop's program. Please plan on bringing 100 paper copies for Workshop attendees. In addition, to allow teleconference participants access to the presentation, please submit the presentations in electronic format via FERC's e-Filing system at www.ferc.gov. Select the filing type “Production of Document” and file under Docket No. AD03-7-002. Contact FERCOnlineSupport@ferc.gov, or call 1-866-208-3676 if you need assistance with the electronic filing system. Please file your presentation electronically by 9 am on Tuesday, November 4. This will ensure that all presentations are made part of the official record and will allow for timely posting on FERC's Public Calendar, which can be accessed at: http://www.ferc.gov/EventCalendar/EventDetails.aspx?ID=513&CalType=&Date=11%2f4%2f2003&CalendarID=0. Anyone wishing to bring or file a position paper in connection with the issues and questions being discussed at this Workshop is welcome to do so.

Workshop Format

The Workshop will be in roundtable format. It will begin with the price publishers describing current practices, and the availability of liquidity and market activity information. The remainder of the Workshop will allow other participants to address the issues and questions contained in the Notices issued on October 15 and 23, 2003.

For additional information please contact Jolanka Fisher, 202-502-8863 or by e-mail at Jolanka.Fisher@ferc.gov.

Magalie R. Salas,
Secretary.

[FR Doc. E3-00164 Filed 11-03-03; 8:45 am]

BILLING CODE 6717-01-P